DEPARTMENT OF COMMERCE

Foreign-Trade Zones Board

[Order No. 1885]

Reorganization of Foreign-Trade Zone 72 (Expansion of Service Area) Under Alternative Site Framework; Indianapolis, Indiana

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Indianapolis Airport Authority, grantee of Foreign-Trade Zone 72, submitted an application to the Board (FTZ Docket B-71-2012, docketed 9/19/2012) for authority to expand the service area of the zone to include Union and Vermillion Counties, as described in the application, adjacent to the Indianapolis, Indiana Customs and Border Protection ports of entry;

Whereas, notice inviting public comment was given in the Federal Register (77 FR 59373-69374, 9/27/2012) and the application has been processed pursuant to the FTZ Act and the Board's regulations; and,

Whereas, the Board adopts the findings and recommendations of the examiner's report, and finds that the requirements of the FTZ Act and the Board's regulations are satisfied;

Now, therefore, the Board hereby orders:

The application to reorganize FTZ 72 to expand the service area under the ASF is approved, subject to the FTZ Act and the Board's regulations, including Section 400.13, and to the Board's standard 2,000-acre activation limit for the zone.

Signed at Washington, DC, this 5th day of March 2013.
Paul Piquado,
Assistant Secretary of Commerce for Import Administration, Alternate Chairman, Foreign-Trade Zones Board.
Andrew McGilvray,
Executive Secretary.

[FR Doc. 2013-05789 Filed 3-13-13; 8:45 am]

BILLING CODE P